INTERNATIONAL TRADE COMMISSION

[Investigation Nos. 701-TA-455 and 731-TA-1149 (Review)]

Circular Welded Carbon Quality Steel Line Pipe From China; Determination

On the basis of the record ¹ developed in the subject five-year reviews, the United States International Trade Commission (Commission) determines, pursuant to section 751(c) of the Tariff Act of 1930 (19 U.S.C. 1675(c)), that revocation of the countervailing duty order and the antidumping duty on circular welded carbon quality steel line pipe from China would be likely to lead to continuation or recurrence of material injury to an industry in the United States within a reasonably foreseeable time.²

¹ The record is defined in sec. 207.2(f) of the Commission's Rules of Practice and Procedure (19 CFR 207.2(f)).

² Commissioner Rhonda K. Schmidtlein was not a member of the Commission at the time of the vote.

Background

The Commission instituted these reviews on December 2, 2013 (78 FR 72114) and determined on March 7, 2014 that it would conduct expedited reviews (79 FR 15776, March 21, 2014). The Commission completed and filed its determination in these reviews on May 2, 2014. The views of the Commission are contained in USITC Publication 4464, May 2014, entitled Circular Welded Carbon Quality Steel Line Pipe from China: Investigation Nos. 701-TA-455 and 731-TA-1149 (Review).

By order of the Commission.
Issued: May 2, 2014.
Lisa R. Barton,
Secretary to the Commission.

[FR Doc. 2014-10554 Filed 5-7-14; 8:45 am]

BILLING CODE 7020-02-P